DEPARTMENT OF LABOR

Employment and Training Administration

[TA-W-82,253]

Cardinal Health, Financial Shared Services West, Including On-Site Leased Workers From Aerotek, eXcel Staffing, Experis Finance (Manpower), Ricoh, USA, Dawson Creative, Mergis Group and Tailored Management, Albuquerque, NM; Amended Certification Regarding Eligibility To Apply for Worker Adjustment Assistance

In accordance with Section 223 of the Trade Act of 1974, as amended (“Act”), 19 U.S.C. 2273, the Department of Labor issued a Certification of Eligibility to Apply for Worker Adjustment Assistance on December 21, 2012, applicable to workers of Cardinal Health, Financial Shared Services West, including on-site leased workers from Aerotek, eXcel Staffing, and Experis Finance (Manpower), Albuquerque, New Mexico. The workers are engaged in activities related to the supply of back office financial services. The Department's Notice was published in the Federal Register on January 10, 2013 (78 FR 2289).

At the request of a company official, the Department reviewed the certification applicable to the workers and former workers of the subject firm. New information shows that workers leased from Ricoh, USA, Dawson Creative, Mergis Group, and Tailored Management were employed on-site at the Albuquerque, New Mexico location of the subject firm. The Department has determined that these workers were sufficiently under the control of Cardinal Health, Financial Shared Services West to be considered leased workers.

The intent of the Department's certification is to include all workers of the subject firm who were adversely affected by an acquisition of back office financial services from India and the Philippines. Based on these findings, the Department is amending this certification to include workers leased from Ricoh, USA, Dawson Creative, Mergis Group, and Tailored Management working on-site at the Albuquerque, New Mexico location of the subject firm.

The amended notice applicable to TA-W-82,253 is hereby issued as follows:

“All workers from Cardinal Health, Financial Shared Services West, including Aerotek, eXcel Staffing, Experis Finance (Manpower), Ricoh, USA, Dawson Creative, Mergis Group, and Tailored Management, Albuquerque, New Mexico, who became totally or partially separated from employment on or after December 13, 2011, through December 21, 2014, and all workers in the group threatened with total or partial separation from employment on date of certification through two years from the date of certification, are eligible to apply for adjustment assistance under Chapter 2 of Title II of the Trade Act of 1974, as amended.”

Signed at Washington, DC this 8th day of February, 2013.
Del Min Amy Chen,
Certifying Officer, Office of Trade Adjustment Assistance.

[FR Doc. 2013-04020 Filed 2-21-13; 8:45 am]

BILLING CODE 4510-FN-P